DEPARTMENT OF THE INTERIOR

U.S. Geological Survey

[GX16EN05ESB0500]

Agency Information Collection Activities: Request for Comments

AGENCY: U.S. Geological Survey (USGS), Interior.

ACTION: Notice of revision of a currently approved information collection, (1028-0096).

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR. This collection is scheduled to expire on August 31, 2016.

DATES: To ensure that your comments on this ICR are considered, OMB must receive them on or before September 12, 2016.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028-0028 Department of the Interior Regional Climate Science Centers'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028-0028 Department of the Interior Regional Climate Science Centers' in all correspondence.

FOR FURTHER INFORMATION CONTACT: Robin O'Malley, National Climate Change and Wildlife Science Center, U.S. Geological Survey, 12201 Sunrise Valley Drive, Mail Stop 516, Reston, VA 20192 (mail); 703-648-4086 (phone); or romalley@usgs.gov (email). You may also find information about this ICR at www.reginfo.gov.

SUPPLEMENTARY INFORMATION:

I. Abstract

The U.S. Geological Survey (USGS) manages eight Department of the Interior (DOI) Climate Science Centers (CSC). Each CSC involves a cooperative agreement with a host institution. The initial host institution agreements will be re-competed, requiring collection of information from potential host institutions. In addition, this information collection addresses quarterly and annual reporting required of host institutions.

II. Data

OMB Control Number: 1028-0096.

Form Number: NA.

Title: Department of the Interior Regional Climate Science Centers.

Type of Request: Revision of a currently approved information collection.

Respondent Obligation: Required to obtain or retain benefits.

Frequency of Collection: Information will be collected one time every five years (approximately) for each CSC, to enable re-competition of CSC hosting agreements. In addition, host institutions are required to fill four quarterly financial statements and one annual progress report.

Description of Respondents: Institutions that are expected to propose to serve as CSC host or partner institutions include State, local government, and tribal entities, including academic institutions. Existing host institutions are State academic institutions.

Estimated Total Number of Annual Responses: USGS expects to request proposals for a maximum of three CSCs in any year, and to receive an average of five proposals per CSC-request, for a total of fifteen proposals in any single year. USGS expects to enter into hosting agreements with a minimum of eight CSC host institutions. Thus USGS would request quarterly financial statements and annual progress reports covering host agreements from eight institutions. In addition, USGS expects to have in place approximately forty cooperative agreements per year addressing specific research projects funded under these hosting agreements. Each of these 40 agreements requires quarterly financial statements and one annual progress report.

Estimated Time per Response: Each proposal for CSC hosting is expected to take 200 hours to complete. The time required to complete quarterly and annual reports for any specific host cooperative agreement or research project agreement is expected to total 2.5 hours per report.

Estimated Annual Burden Hours: A maximum of 3,000 hours in years when proposals are requested, and 1 hours in those years with only quarterly and annual reporting.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number. Until the OMB approves a collection of information, you are not obliged to respond.

Comments: On September 1, 2015, we published a Federal Register notice (80 FR 52786) announcing that we would submit this ICR to OMB for approval and soliciting comments. The comment period closed on November 2, 2015. We received no comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask us and the OMB in your comment to withhold your personal identifying information from public review, we cannot guarantee that it will be done.

Douglas Beard,
Chief of National Climate Change and Wildlife Science Center.

[FR Doc. 2016-19110 Filed 8-10-16; 8:45 am]

BILLING CODE 4338-11-P